DEPARTMENT OF COMMERCE

National Oceanic and Atmospheric Administration

50 CFR Part 679

[Docket No. 000211040-0040-01; I.D. 101200A]

Fisheries of the Exclusive Economic Zone Off Alaska; Reallocation of Pollock

AGENCY: National Marine Fisheries Service (NMFS), National Oceanic and Atmospheric Administration (NOAA), Commerce.

ACTION: Reallocation.

SUMMARY: NMFS is reallocating projected unused amounts of Bering Sea subarea (BS) pollock from the incidental catch allowance to the directed fisheries. This action is necessary to allow the 2000 total allowable catch (TAC) of pollock to be harvested.

DATES: Effective October 13, 2000.

FOR FURTHER INFORMATION CONTACT: Andrew Smoker, 907-586-7228.

SUPPLEMENTARY INFORMATION: NMFS manages the groundfish fishery in the Bering Sea and Aleutian Islands area (BSAI) according to the Fishery Management Plan for the Groundfish Fishery of the Bering Sea and Aleutian Islands Area (FMP) prepared by the North Pacific Fishery Management Council under authority of the Magnuson-Stevens Fishery Conservation and Management Act. Regulations governing fishing by U.S. vessels in accordance with the FMP appear at subpart H of 50 CFR part 600 and 50 CFR part 679.

In accordance with section 206(b) of the American Fisheries Act (AFA), NMFS specified a pollock incidental catch allowance equal to 5 percent of the pollock total allowable catch after subtraction of the 10 percent Community Development Quota reserve in the Final 2000 Harvest Specifications for Groundfish for the BSAI (65 FR 8282, February 18, 2000).

As of October 10, 2000, the Administrator, Alaska Region, NMFS (Regional Administrator), has determined that approximately 14,000 metric tons (mt) of pollock remain in the incidental catch allowance. Based on projected harvest rates of other groundfish species and the expected bycatch of pollock in those fisheries, the Regional Administrator has determined that 9,000 mt of pollock specified in the incidental catch account will not be necessary as incidental catch. Therefore, NMFS is apportioning the projected unused amount, 9,000 mt, of pollock from the incidental catch allowance to the directed fishing allowances established at section 206(b) of the AFA. This transfer will increase the allocation to catcher vessels harvesting pollock for processing by the inshore component by 4,500 mt, to catcher/processors and catcher vessels harvesting pollock for processing by catcher processors in the offshore component by 3,600 mt, and to catcher vessels harvesting pollock for processing by motherships in the offshore component by 900 mt. Pursuant to section 210(c) of the AFA, no less than 8.5 percent of the 3,600 mt allocated to catcher processors in the offshore component, 306 mt, will be available for harvest only by eligible catcher vessels delivering to listed catcher processors.

Regulations in the emergency interim rule establishing Steller sea lion protection measures for the pollock fisheries off Alaska (65 FR 3892, January 25, 2000) and extended (65 FR 36795, June 12, 2000) allow for catch to occur within the C/D season so that pollock removals from all sectors do not exceed 60 percent of the annual TAC. Sixty percent of the annual pollock TAC is equal to 683,400 mt tons. With this apportionment the C/D season catch for the three combined directed fisheries, the CDQ fishery, and bycatch of pollock in other directed groundfish fisheries will be less than 679,000 mt, thereby not violating the 60 percent restriction.

The emergency interim rule to establish AFA permit requirements (65 FR 380, January 5, 2000) and the extension (65 FR 39107, June 23, 2000) set out procedures for AFA inshore catcher vessel pollock cooperatives to apply for and receive cooperative fishing permits and inshore pollock allocations. NMFS received applications from seven inshore catcher vessel cooperatives by the application deadline of December 31, 1999. Table 1 revises the final 2000 BS subarea allocations to include the seven inshore catcher vessel pollock cooperatives that have been approved and permitted by NMFS for the 2000 fishing year consistent with this reallocation.

BILLING CODE 3510-22-S

BILLING CODE 3510-22-C

Classification

This action responds to the best available information recently obtained from the fishery. NMFS finds that the need to implement this action immediately in order to allow full utilization of the pollock TAC constitutes good cause to waive prior notice and comment as such procedures are unnecessary and contrary to the public interest. As further delay would only disrupt the AFA and the FMP’s objective of providing pollock for harvest in directed fisheries, NMFS finds for good cause that the implementation of this action cannot be delayed for 30 days. Accordingly, under 5 U.S.C. 553(d), a delay in the effective date is hereby waived.

This action is taken under 50 CFR 679.20, and is exempt from review under E.O. 12866.

Authority: 16 U.S.C. 1801 et. seq.

October 13, 2000.
Clarence Pautzke
Director, Office of Sustainable Fisheries, National Marine Fisheries Service.

[FR Doc. 00-26786 Filed 10-13-00; 5:02 pm]

BILLING CODE: 3510-22-S